DEPARTMENT OF THE INTERIOR

National Park Service

Supplemental Oil and Gas Management Plan, Environmental Impact Statement, Padre Island National Seashore, TX

AGENCY: National Park Service, Department of the Interior.

ACTION: Notice of Intent to prepare a Supplemental Oil and Gas Management Plan, Environmental Impact Statement, for Padre Island National Seashore, Texas.

SUMMARY: Pursuant to the National Environmental Policy Act of 1969, 42 U.S.C. 4332(2)(C), the National Park Service is preparing a Supplemental Oil and Gas Management Plan, Environmental Impact Statement, for Padre Island National Seashore, Texas. This will supplement the Oil and Gas Management Plan, Final Environmental Impact Statement completed on October 12, 2000.

The major change in the Supplemental Oil and Gas Management Plan, Environmental Impact Statement, will be a revised reasonably foreseeable development scenario. Minor revisions will include new information on some resources in Padre Island National Seashore.

A scoping brochure has been prepared that detail the proposed revisions identified to date. Copies of the scoping brochure may be obtained from Linda Dansby, SEIS Manager, Office of Minerals/Oil and Gas Support, Intermountain Region-Santa Fe, National Park Service, P.O. Box 728, Santa Fe, NM 87504-0728, telephone 505-988-6095.

DATES: The Park Service will accept comments from the public through July 10, 2008.

ADDRESSES: The scoping brochure will be available for public review and comment online at the Planning, Environment and Public Comment (PEPC) Web site at http://parkplanning.nps.gov/pais. The scoping brochure is also available in the office of the Superintendent, Joe Escoto, 20301 Park Road 22, Corpus Christi, Texas; and in the office of the SEIS Manager, Office of Minerals/Oil and Gas Support, 1100 Old Santa Fe Trail, Santa Fe, New Mexico. The Oil and Gas Management Plan, Final Environmental Impact Statement completed on October 12, 2000 is also available online at the PEPC Web site provided above; and a limited number of printed copies are available by contacting the SEIS Manager.

FOR FURTHER INFORMATION CONTACT: Linda Dansby, SEIS Manager, Office of Minerals/Oil and Gas Support, Intermountain Region-Santa Fe, National Park Service, P.O. Box 728, Santa Fe, New Mexico 87504-0728, Telephone 505-988-6095, e-mail at Linda_Dansby@nps.gov.

SUPPLEMENTARY INFORMATION: If you wish to comment on the scoping brochure or on any other issues associated with the supplemental oil and gas management plan, environmental impact statement, you may submit your comments by any one of several methods. You may mail comments to SEIS Manager Linda Dansby, at the mailing address provided above. You may also post comments online at http://parkplanning.nps.gov/pais. If you do not receive a confirmation from the system that we have received your Internet message, contact SEIS Manager Linda Dansby directly at 505-988-6095. Finally, you may hand-deliver comments to Padre Island National Seashore or SEIS Manager Linda Dansby at the street addresses provided. Before including your address, phone number, e-mail address, or other personal identifying information in your comment, you should be aware that your entire comment—including your personal identifying information—may be made publicly available at any time. While you can ask us in your comment to withhold your personal identifying information from public review, we cannot guarantee that we will be able to do so.

Dated: June 4, 2008.
Hal J. Grovert,
Acting Regional Director, Intermountain Region, National Park Service.

[FR Doc. E8-12984 Filed 6-9-08; 8:45 am]

BILLING CODE 4312-CD-P